DEPARTMENT OF COMMERCE

National Oceanic and Atmospheric Administration

[I.D.071200D]

Endangered Species; Permits

AGENCY: National Marine Fisheries Service (NMFS), National Oceanic and Atmospheric Administration (NOAA), Commerce.

ACTION: Receipt of applications to modify permits (984)(1058) and issued modifications to existing permits (994)(1134)(1194).

SUMMARY: Notice is hereby given of the following actions regarding permits for takes of endangered and threatened species for the purposes of scientific research and/or enhancement:

NMFS has received a request to modify permit (984) from Dr. Steve Ross, of the North Carolina National Estuarine Research Reserve, and from the Idaho Fishery Resource Office of the U.S. Fish and Wildlife Service at Ahsahka, ID (FWS) (1058); NMFS has issued modifications to a scientific research permit to the Columbia River Inter-Tribal Fish Commission at Portland, OR (CRITFC)(1134), a scientific research permit to the Idaho Cooperative Fish and Wildlife Research Unit at Moscow, ID (ICFWRU)(994) and a scientific research permit to the Fish Ecology Division, Northwest Fisheries Science Center, National Marine Fisheries Service at Seattle, WA (NWFSC)(1194).

DATES: Comments or requests for a public hearing on any of the new applications or modification requests must be received at the appropriate address or fax number no later than 5:00 pm eastern standard time on August 18, 2000.

ADDRESSES: Written comments on any of the new applications or modification requests should be sent to the appropriate office as indicated below. Comments may also be sent via fax to the number indicated for the application or modification request. Comments will not be accepted if submitted via e-mail or the internet. The applications and related documents are available for review in the indicated office, by appointment:

For permits 994, 1058, 1134, 1194: Protected Resources Division, F/NWO3, 525 NE Oregon Street, Suite 500, Portland, OR 97232-2737 (ph: 503-230-5400, fax: 503-230-5435).

For permit 984: Office of Protected Resources, Endangered Species Division, F/PR3, 1315 East-West Highway, Silver Spring, MD 20910 (ph: 301-713-1401, fax: 301-713-0376).

Documents may also be reviewed by appointment in the Office of Protected Resources, F/PR3, NMFS, 1315 East-West Highway, Silver Spring, MD 20910-3226 (301-713-1401).

FOR FURTHER INFORMATION CONTACT: For permit 984: Terri Jordan, Silver Spring, MD (ph: 301-713-1401, fax: 301-713-0376, e-mail: Terri.Jordan@noaa.gov).

For permits 994, 1058: Robert Koch, Portland, OR (ph: 503-230-5424, fax: 503-230-5435, e-mail: Robert.Koch@noaa.gov).

For permit 1134, 1194: Leslie Schaeffer, Portland, OR (503-230-5433, fax: 503-230-5435, e-mail: Leslie.Schaeffer@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species and evolutionarily significant units (ESU's) are covered in this notice:

Sockeye salmon (Oncorhynchus nerka): endangered Snake River (SnR).

Chinook salmon (O. tshawytscha): endangered upper Columbia River (UCR) spring, threatened SnR spring/summer, threatened SnR fall, threatened lower Columbia River (LCR).

Steelhead (O. mykiss): endangered UCR; threatened SnR; threatened middle Columbia River (MCR); threatened LCR.

Shortnose sturgeon (Acipenser brevirostrum).

Modification Requests Received

Permit 984

Dr. Steven Ross requests modification 3 to ESA section 10(a)(1)(A) scientific research permit 984. Permit 984 authorizes the take of shortnose sturgeon from rivers throughout the state of North Carolina. This permit authorizes capture in gillnets, handling, weighing, photographing, dorsalm din clipping for genetic material collection, external and internal tagging and release. Currently both Dr. Mary Moser of the National Marine Fisheries Service—Northwest Fisheries Science Center in Seattle, WA and Dr. Steven Ross are co-investigators, modification #3 would remove Dr. Moser from the permit as co-investigator and extend the expiration date of the permit to December 31, 2001.

Permit 1058

FWS requests modification 2 to ESA section 10(a)(1)(A) scientific research permit 1058. Permit 1058 authorizes FWS annual takes of adult and juvenile, threatened, Snake River fall chinook salmon associated with two scientific research studies. The purpose of Study 1 is to monitor and evaluate adult returns of hatchery-origin fall chinook salmon released as juveniles above Lower Granite Dam on the Snake River in the Pacific Northwest. Currently, information on ESA-listed, natural-origin fish is needed to assess the impacts of fish management actions (e.g., hatchery supplementation), as well as other human activities (e.g., regulated river flows), on wild fish populations. Study 1 has two components: (1) Radio-tagging returning adult salmon at Lower Granite Dam to document the movements and spawning distribution of known natural-origin fall chinook salmon above the dam, and (2) collecting data and scale/tissue samples from spawned-out adult fish in the Snake River and tributaries above Lower Granite Dam to augment information on spawning distribution collected from the radio-tagged fish. The purpose of Study 2 is to obtain a better understanding of the factors leading to residualism and interactions between residuals and wild or natural stocks of juvenile fish in the Clearwater River Basin in ID. For modification 2, FWS requests an increase in the annual take of ESA-listed adult fish associated with Component 1 of Study 1.

Due to increases in adult salmon runsize estimates in the Snake River, a greater number of ESA-listed fish are likely to be captured and handled (checked for tags and sampled for tissues and/or scales) by FWS. Tissue samples and scales will subsequently be analyzed for genetic attributes and population determinants. Modification 2 is requested to be valid for the duration of the permit which expires on December 31, 2001.

Permits and Modifications Issued

Permit 994

Notice was published on March 21, 2000 (65 FR 15131) that ICFWRU applied for a modification to permit 994. Modification 5 to permit 994 was issued on July 5, 2000. Permit 994 authorizes ICFWRU annual takes of adult SnR sockeye salmon, adult SnR spring/summer and fall chinook salmon, and adult UCR steelhead associated with scientific research designed to assess the passage success and homing behavior of adult salmonids that migrate upriver past the eight dams and reservoirs in the lower Columbia and lower Snake Rivers, evaluate specific flow and spill conditions, and evaluate measures to improve adult anadromous fish passage. For modification 5, ICFWRU is authorized a take of adult UCR spring chinook salmon associated with the research. With regard to ICFWRU's request for an increase in take of adult SnR sockeye salmon and takes of adult LCR chinook salmon, adult MCR steelhead, and adult LCR steelhead associated with the research, NMFS is not acting on that part of ICFWRU's application at this time. NMFS will make a decision regarding ICFWRU's proposed additional takes following the completion of ESA Section 7 consultations on this and other scientific research permit actions that have been requested for the 2000 research season. Modification 5 is valid for the duration of permit 994, which expires on December 31, 2000.

Permit 1134

Notice was published on September 27, 1999 (64 FR 51959) that the CRITFC had applied for a modification to permit 1134. Modification 1 to permit 1134 was issued on July 10, 2000, and authorizes CRITFC annual takes of adult and juvenile fish associated with three new projects: (1) biological and chemical monitoring, and physical habitat assessment in steelhead waters; (2) tagging juvenile Hanford Reach upriver bright fall chinook salmon; and (3) SnR steelhead kelt identification study. Annual takes of adult and juvenile, naturally produced and artificially propagated UCR spring chinook salmon and adult and juvenile LCR chinook salmon associated with the research are also authorized. Modification 1 is valid for the duration of permit 1134, which expires on December 31, 2002.

Permit 1194

Notice was published on March 21, 2000 (65 FR 15131) that the NWFSC had applied for a modification to permit 1194. Modification 1 to permit 1194 was issued on June 6, 2000, and authorizes NWFSC annual takes of adult artificially propagated UCR spring chinook salmon. Modification 1 is valid for the duration of permit 1194, which expires on December 31, 2003.

Dated: July 14, 2000.
Wanda L. Cain,
Chief, Endangered Species Division, Office of Protected Resources, National Marine Fisheries Service.

[FR Doc. 00-18262 Filed 7-18-00; 8:45 am]

BILLING CODE 3510-22-F